DEPARTMENT OF HOUSING AND URBAN DEVELOPMENT

[Docket No. FR-7070-N-08; OMB Control No. 2503-0033]

30-Day Notice of Proposed Information Collection: Ginnie Mae Mortgage-Backed Securities Guide 5500.3, Revision 1

AGENCY: Office of Policy Development and Research, Chief Data Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: February 27, 2023.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Anna Guido, Reports Management Officer, REE, Department of Housing and Urban Development, 451 7th Street SW, Washington, DC 20410; email Anna Guido at Anna.P.Guido@hud.gov telephone 202-402-5535 for Anna. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD has submitted to OMB a request for approval of the information collection described in Section A. The Federal Register notice that solicited public comment on the information collection for a period of 60 days was published on June 8, 2022 at 87 FR 34896.

A. Overview of Information Collection

Title of Information Collection: Revision of a currently approved collection.

OMB Approval Number: 2503-0033.

Type of Request: Revisions of currently approved collection.

Form Number: HUD-11705; HUD-1106 and Appendix VI-22 are the only forms getting updated.

Description of the need for the information and proposed use: This is a revision of a currently approved collection. Number of Respondents: Currently there are approximately 423 Ginnie Mae approved Issuers that are actively doing business in our programs. Approximately 368 of them are managing an active portfolio. Explanation of change in burden hours: The most significant change comes with the change to the hourly cost per response given that three years have passed since the last submission, employee hourly wage has been recalculated to match current market standards.

• Addition of appendix VI-22/Reporting and Feedback (RFS) Single Family Issuer Monthly Payment Default Status (PDS) Loan Level Reporting.

• File format change to form HUD 11705/Appendix III-6/Schedule of Subscribers and Ginnie Mae Guaranty Agreement from Single Family Flat File Layout that is currently submitted to Ginnie Mae to Extensible Markup Language (XML) format based on MISMO Version 3.3.

• File format change to form HUD 11706/Appendix III-7/Schedule of Pooled Mortgages from Single Family Flat File Layout that is currently submitted to Ginnie Mae to Extensible Markup Language (XML) format based on MISMO Version 3.3.

Respondents (describe):

Form | Appendix No. | Title | Number of respondents | Frequency of responses per year | Total annual responses | Hours per response | Total annual hours | Hourly cost per response | Estimated annual cost to respondents (issuers)
11700 | II-1 | Letter of Transmittal for Commitment Authority and/or Pool Numbers | 360.00 | 4.00 | 1,440.00 | 0.05 | 72.00 | 45.56 | 3,280.32
11701 | I-1 | Application for Approval Ginnie Mae Mortgage-Backed Securities Issuer | 15.00 | 1.00 | 15.00 | 3.00 | 45.00 | 45.56 | 2,050.20
11702 | I-2 | Resolution of Board of Directors and Certificate of Authorized Signatures | 423.00 | 1.00 | 423.00 | 0.80 | 338.40 | 45.56 | 15,417.50
11703-II | I-7 | Master Agreement for Participation Accounting | 17.00 | 1.00 | 17.00 | 0.80 | 13.60 | 45.56 | 619.62
11704 | II-2 | Commitment to Guaranty Mortgage-Backed Securities | 360.00 | 4.00 | 1,440.00 | 0.05 | 72.00 | 45.56 | 3,280.32
11707 | III-1 | Master Servicing Agreement | 423.00 | 1.00 | 423.00 | 0.10 | 42.30 | 45.56 | 1,927.19
11709 | III-2 | Master Agreement for Servicer's Principal and Interest Custodial Account | 423.00 | 1.00 | 423.00 | 0.10 | 42.30 | 45.56 | 1,927.19
11715 | III-4 | Master Custodial Agreement | 423.00 | 1.00 | 423.00 | 0.12 | 50.76 | 45.56 | 2,312.63
11720 | III-3 | Master Agreement for Servicer's Escrow Custodial Account | 3,428.00 | 1.00 | 3,428.00 | 0.10 | 342.80 | 45.56 | 15,617.97
11732 | III-22 | Custodian's Certification for Construction Securities | 55.00 | 1.00 | 55.00 | 0.10 | 5.50 | 45.56 | 250.58
| VI-20 | Electronic Submission of Issuers' Insurance and Annual Audited Financial Documents | 423.00 | 1.00 | 423.00 | 1.00 | 423.00 | 45.56 | 19,271.88
11750 |  | Mortgage Bankers Financial Reporting Form | 360.00 | 4.00 | 1,440.00 | 0.60 | 864.00 | 45.56 | 39,363.84
11709-A | I-6 | ACH Debit Authorization | 423.00 | 1.00 | 423.00 | 0.12 | 50.76 | 45.56 | 2,312.63
11710 D | VI-5 | Issuer's Monthly Summary Reports | 360.00 | 12.00 | 4,320.00 | 0.08 | 345.60 | 45.56 | 15,745.54
| VI-21 | HMBS issuer's Monthly Summary Report | 16.00 | 12.00 | 192.00 | 0.08 | 15.36 | 45.56 | 699.80
| III-13 | Electronic Data Interchange System Agreement | 15.00 | 1.00 | 15.00 | 0.12 | 1.80 | 45.56 | 82.01
| I-4 | Cross Default Agreement | 5.00 | 1.00 | 5.00 | 2.00 | 10.00 | 45.56 | 455.60
| VI-18 | WHFIT Reporting | 360.00 | 4.00 | 1,440.00 | 0.48 | 691.20 | 45.56 | 31,491.07
| III-29 | System Access Forms | 277.00 | 1.00 | 277.00 | 2.00 | 554.00 | 45.56 | 25,240.24
| VIII-1 | Ginnie Mae Acknowledgement Agreement an Accompanying Documents Pledge of Servicing | 15.00 | 1.00 | 15.00 | 40.00 | 600.00 | 45.56 | 27,336.00
| VI-14 | Multifamily Prepayment Penalty Record File Layout | 40.00 | 12.00 | 480.00 | 0.18 | 86.40 | 45.56 | 3,936.38
| VI-16 | Quarterly Custodial Account Verification Record File Layout | 360.00 | 4.00 | 1,440.00 | 0.60 | 864.00 | 45.56 | 39,363.84
| VI-17 | HMBS Issuer Pooling & Reporting Specification for Mortgage-Backed Securities Administration Agent | 16.00 | 12.00 | 192.00 | 4.00 | 768.00 | 45.56 | 34,990.08
| VI-19 | Reporting and Feedback (RFS) Issuer Monthly Report of Pool and Loan Data | 361.00 | 12.00 | 4,332.00 | 4.00 | 17,328.00 | 45.56 | 789,463.68
| VI-22 | Reporting and Feedback (RFS) Single Family Payment Default Status (PDS) Loan Level Reporting | 306 | 12 | 3,672.00 | 0.20 | 734.4 | 45.56 | 33,459.26
The burden for the items listed below is based on volume and/or number of requests
11705 | III-6 | Schedule of Subscribers and Ginnie Mae Guaranty Agreement | 366.00 | 12.00 | 4,392.00 | 0.03 | 131.76 | 45.56 | 6,002.99
11706 | III-7 | Schedule of Pooled Mortgages | 366.00 | 12.00 | 4,392.00 | 0.08 | 351.36 | 45.56 | 16,007.96
11705 H, 11706 H | III-28 | Schedule of Subscribers and Ginnie Mae Guaranty Agreement—HMBS Pooling Import File Layout | 74.00 | 12.00 | 888.00 | 0.05 | 44.40 | 45.56 | 2,022.86
| V-5 | Document Release Request | 3,181.00 | 1.00 | 3,181.00 | 0.05 | 159.05 | 45.56 | 7,246.32
| XI-6, XI-8, XI-9 | SSCRA Loan Eligibility Information Solders' and Sailors' Quarterly Reimbursement Request SSCRA Eligibility and Reimbursement Files | 1,350.00 | 4.00 | 5,400.00 | 0.12 | 648.00 | 45.56 | 29,522.88
11711A and 11711B | III-5 | Release of Security Interest and Certification and Agreement | 5,591.00 | 12.00 | 67,092.00 | 0.18 | 12,076.56 | 45.56 | 550,208.07
11714 | VI-10 | Issuer's Monthly Remittance Advice Issuer's Monthly Serial Note Remittance Advice | 3,975.00 | 12.00 | 47,700.00 | 0.10 | 4,770.00 | 45.56 | 217,321.20
11714SN | VI-11 | Issuer's Monthly Remittance Advice Issuer's Monthly Serial Note Remittance Advice | 3,975.00 | 12.00 | 47,700.00 | 0.10 | 4,770.00 | 45.56 | 217,321.20
| VI-2 | Letter for Loan Repurchase | 360.00 | 12.00 | 4,320.00 | 0.15 | 648.00 | 45.56 | 29,522.88
| III-21 | Certification Requirements for the Pooling of Multifamily Mature Loan Program | 322.00 | 1.00 | 322.00 | 0.12 | 38.64 | 45.56 | 1,760.44
| VI-9 | Request for Reimbursement of Mortgage Insurance Claim Costs for Multifamily Loans | 8.00 | 12.00 | 96.00 | 0.30 | 28.80 | 45.56 | 1,312.13
| VI-19 | Reporting and Feedback (RFS) Single Family Issuer Monthly Payment Default Status (PDS) Loan Level Reporting | 306.00 | 12.00 | 3,672.00 | 0.10 | 367.20 | 45.56 | 16,891.20
| VIII-3 | Assignment Agreements | 220.00 | 1.00 | 220.00 | 0.48 | 105.60 | 45.56 | 4,811.14
Total |  |  |  | Varies | 216,128.000 | Varies | 48,500.55 |  | $2,209,685.06

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. Chapter 35.

Anna Guido,
Department Reports Management Officer, Office of the Chief Information Officer.

[FR Doc. 2023-01700 Filed 1-26-23; 8:45 am]

BILLING CODE 4210-67-P